DEPARTMENT OF COMMERCE

National Oceanic and Atmospheric Administration

[I.D. 110405A ]

New England Fishery Management Council; Public Meeting

AGENCY: National Marine Fisheries Service (NMFS), National Oceanic and Atmospheric Administration (NOAA), Commerce.

ACTION: Notice of a public meeting.

SUMMARY: The New England Fishery Management Council (Council) is scheduling a public meeting of its Capacity Committee on November 29, 2005, to consider actions affecting New England fisheries in the exclusive economic zone (EEZ). Recommendations from this group will be brought to the full Council for formal consideration and action, if appropriate.

DATES: The meeting will be held on Tuesday, November 29, 2005, at 9 a.m.

ADDRESSES: Meeting address: The meeting will be held at the Holiday Inn, 31 Hampshire Street, Mansfield, MA 02048; telephone: (508) 339-2200; fax: (508) 337-8677.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The Capacity Committee will review the Terms of Reference adopted by the Council. Northeast Fisheries Science Center (NEFSC) and National Marine Fisheries Service (NMFS) staff will present reports covering a range of subjects, including: overview of industry-funded buyback programs around the country as well as approaches that could be adopted in New England; definitions of capacity and the assessment of overcapacity; the Food and Agricultural Organization (FAO) overcapacity reduction initiative and NMFS commitment; institutional arrangements for managing capacity including collaborative management approaches; and, guiding principals and evaluation criteria for managing capacity. Council staff will provide a brief report on NMFS' Overcapacity Workshop held in September. Following discussion of these items, the Committee will proceed with the initial development of capacity management alternatives for groundfish and scallop fisheries.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard, Executive Director, at 978-465-0492, at least 5 days prior to the meeting date.

Authority: 16 U.S.C. 1801 et seq.

Dated: November 4, 2005.
Emily Menashes,
Acting Director, Office of Sustainable Fisheries,National Marine Fisheries Service.

[FR Doc. E5-6176 Filed 11-8-05; 8:45 am]

BILLING CODE 3510-22-S